DEPARTMENT OF ENERGY

Federal Energy Regulatory Commission

[Project No. 2602]

Duke Power, a Division of Duke Energy Corporation, Nantahala Area; Notice of Authorization or Continued Project Operation

September 6, 2005.

On July 22, 2003, Duke Power, a division of Duke Energy Corporation, Nantahala Area, licensee for the Dillsboro Project No. 2602, filed an application for subsequent license pursuant to the Federal Power Act (FPA) and the Commission's regulations. The application for subsequent license will be held in abeyance pending Commission processing of a surrender application filed on June 1, 2004. Project No. 2602 is located on the Tuckasegee River in Jackson County, North Carolina.

The license for Project No. 2602 was issued for a period ending July 31, 2005. Based on section 9(b) of the Administrative Procedure Act, 5 U.S.C. 558(c), and as set forth at 18 CFR 16.21(a), the licensee is to continue to operate the project in accordance with the terms and conditions of its license until the Commission acts on its application for subsequent license, accepts its surrender application, or takes other appropriate action.

Magalie R. Salas,
Secretary.

[FR Doc. E5-4963 Filed 9-9-05; 8:45 am]

BILLING CODE 6717-01-P